ENVIRONMENTAL PROTECTION AGENCY

40 CFR Part 721

[EPA-HQ-OPPT-2006-0795; FRL-8112-9]

RIN 2070-AJ31

2,3,5,6-Tetrachloro-2,5-Cyclohexadiene-1,4-Dione; Proposed Significant New Use of a Chemical Substance; Reopening of Comment Period

AGENCY: Environmental Protection Agency (EPA).

ACTION: Proposed rule; reopening of comment period.

SUMMARY: EPA is reopening the comment period for a proposed rule concerning any significant new use of the chemical chloranil (2,3,5,6-tetrachloro-2,5-cyclohexadiene-1,4-dione) published in the Federal Register of May 12, 1993 (58 FR 27980). EPA reopened the comment period for 30 days through a proposed rule published in the Federal Register of December 18, 2006 (71 FR 75703) (FRL-8102-3). This document reopens the comment period for an additional 45 days. The comment period is again reopened because of a request for additional time from one of the original commenters.

DATES: Comments must be received on or before March 16, 2007.

ADDRESSES: Follow the detailed instructions provided under ADDRESSES in the proposed rule published in the Federal Register of December 18, 2006 (71 FR 75703).

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Dwain Winters, National Program Chemicals Division (7404T), Office of Pollution Prevention and Toxics, Environmental Protection Agency, 1200 Pennsylvania Ave., NW., Washington, DC 20460-0001; telephone number: (202) 566-1977; e-mail address: winters.dwain@epa.gov.

SUPPLEMENTARY INFORMATION:

I. General Information

A. Does this Action Apply to Me?

The Agency identified in the proposed rule those who may be potentially affected by that action. If you have questions regarding the applicability of this action to a particular entity, consult the technical person listed under FOR FURTHER INFORMATION CONTACT.

B. How and to Whom Do I Submit Comments?

To submit comments, or access the public docket, follow the detailed instructions provided under ADDRESSES in the proposed rule published in the Federal Register of December 18, 2006 (71 FR 75703).

II. What Action is EPA Taking?

This document reopens the comment period established in a proposed rule published in the Federal Register of May 12, 1993 (58 FR 27980). In that document, EPA proposed a Significant New Use Rule (SNUR) that would require persons to notify EPA at least 90 days before commencing the manufacture, import, or processing, for any use, of chloranil containing certain chlorinated dibenzo-p-dioxins (CDDs) and chlorinated dibenzofurans (CDFs) in total combined amounts greater than 20 parts per billion (ppb). The chloranil CDD/CDF concentration would be calculated based on their toxicity equivalence (TEQ) to 2,3,7,8-tetrachlorodibenzo-p-dioxin (2,3,7,8-TCDD). The 90-day notice required by the SNUR would provide EPA with the opportunity to evaluate the intended new use and associated activities, and an opportunity to protect against unreasonable risks, if any, from CDD/CDF exposure that could result from use of chloranil with higher CDD/CDF levels. Certain recordkeeping and certification requirements would also apply to manufacturers, importers, and processors of all chloranil, no matter what the level of CDD/CDF contamination. EPA indicated that it could not promulgate a final rule until after receiving data required under the dioxin furan test rule (40 CFR part 766). Reporting under the dioxin furan test rule has been completed and no chloranil dioxin levels reported were above 20 ppb TEQ. EPA is reopening the comment period for 45 days. The new comment period ends on March 16, 2007.

III. What is the Agency's Authority for Taking this Action?

Section 5(a)(2) of the Toxic Substances Control Act (TSCA) (15 U.S.C. 2604(a)(2)) authorizes EPA to determine that a use of a chemical substance is a “significant new use.” EPA must make this determination by rule after considering all relevant factors, including those listed in TSCA section 5(a)(2). Once EPA determines that a use of a chemical substance is a significant new use, TSCA section 5(a)(1)(B) requires persons to submit a Significant New Use Notice (SNUN) to EPA at least 90 days before they manufacture, import, or process the chemical substance for that use (15 U.S.C. 2604(a)(1)(B)). The mechanism for reporting under this requirement is established under 40 CFR part 721, subpart A.

List of Subjects in 40 CFR Part 721

Environmental protection, Chemicals, Hazardous substances, Reporting and recordkeeping requirements.

Dated: January 24, 2007.
Charles M. Auer,
Director, Office of Pollution Prevention and Toxics.

[FR Doc. E7-1413 Filed 1-29-07; 8:45 am]

BILLING CODE 6560-50-S